BUREAU OF CONSUMER FINANCIAL PROTECTION

[Docket No. CFPB-2011-0017]

Privacy Act of 1974, as Amended

AGENCY: Bureau of Consumer Financial Protection.

ACTION: Notice of proposed Privacy Act System of Records.

SUMMARY: In accordance with the Privacy Act of 1974, as amended, the Bureau of Consumer Financial Protection, hereinto referred to as the Consumer Financial Protection Bureau (“CFPB”) or the “Bureau”, gives notice of the establishment of a Privacy Act System of Records.

DATES: Comments must be received no later than December 5, 2011. The new system of records will be effective December 14, 2011 unless the comments received result in a contrary determination.

ADDRESSES: You may submit comments, identified by Docket No. CFPB-2011-0017, by any of the following methods:

• Electronic: http://www.regulations.gov. Follow the instructions for submitting comments.

• Mail: Claire Stapleton, Chief Privacy Officer, Consumer Financial Protection Bureau, 1700 G Street NW., Washington, DC 20006.

• Hand Delivery/Courier in Lieu of Mail: Claire Stapleton, Chief Privacy Officer, Consumer Financial Protection Bureau, 1700 G Street NW., Washington, DC 20006.

All submissions must include the agency name and docket number for this notice. In general all comments received will be posted without change to http://www.regulations.gov. In addition, comments will be available for public inspection and copying at 1700 G Street NW., Washington, DC 20006 on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1700 G St. NW., Washington, DC 20006, (202) 435-7220.

SUPPLEMENTARY INFORMATION: The Dodd-Frank Wall Street Reform and Consumer Protection Act (“Act”), Public Law 111-203, Title X, established the CFPB. The CFPB administers, enforces, and implements federal consumer financial law, and, among other powers, has authority to protect consumers from unfair, deceptive, and abusive practices when obtaining consumer financial products or services. The CFPB will maintain the records covered by this notice.

The new systems of records described in this notice, CFPB.008—Transit Subsidy Program, will collect information from employees applying for or holding parking permits, or applying for or participating in transportation subsidies to be used for public transportation, and vanpools to and from the workplace. Information will be used to determine employee eligibility for transit subsidies and to disburse non-monetary subsidies to eligible employees. The new system implements measures that reduce traffic congestion and air pollution and expand commuting alternatives for employees. A description of the new system of records follows this Notice.

The report of a new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

The system of records entitled, “CFPB.008—Transit Subsidy Program is published in its entirety below.

Dated: October 31, 2011.
Claire Stapleton,
Chief Privacy Officer.

CFPB.008

System Name:

CFPB Transit Subsidy Program.

System Location:

Consumer Financial Protection Bureau, 1700 G Street NW., Washington, DC 20006.

Categories of individuals covered by the system:

CFPB employees applying for or who participate in the public transportation transit subsidy program and vanpool transit subsidies to and from the workplace, and applicants for or holders of parking permits.

Categories of records in the system:

Records maintained in this system will contain the Transit Subsidy Program application containing the participant or applicant's name, home address, office address, office telephone number, grade, duty hours, unique numeric identifier chosen by the individual, or the last four of the Social Security number, previous method of transportation to and from the workplace, costs of transportation, and the type of fare subsidy requested including records of parking permit holders. It will include subsidies authorized under the Federal Workforce Transportation Program. Reports will be submitted to the Department of Transportation and to the Bureau of Public Debt in accordance with the CFPB Transit Subsidy Program.

Authority for maintenance of the system:

Public Law 111-203; Title X, sections 1012 and 1013, codified at 12 U.S.C. 5492, 5493; ¹ Public Law 103-172; Title V, section 1(a), codified at 5 U.S.C. 7902.

¹ Section 1066 of the Act grants the Secretary of the Treasury interim authority to perform certain functions of the CFPB. Pursuant to that authority, Treasury published rules on the Disclosure of Records and Information within 12 CFR Chapter X. This SORN is published pursuant to those rules and the Privacy Act.

Purpose(s):

The purpose of the information collection is to establish and maintain systems for providing transportation subsidies to employees. This includes mass transportation, vanpools, and parking permits. Information is used to determine the eligibility of applicants for transportation subsidies and to disburse subsidies to eligible employees through the Department of Transportation, and for parking management. The system also enables the CFPB to compare these records with other federal agencies to ensure that employee transportation programs subsidies are not abused.

Routine uses of records maintained in the system, including categories of users and the purposes of such uses:

These records may be disclosed, consistent with the CFPB Disclosure of Records and Information Rules, promulgated at 12 CFR part 1070 et seq., to:

(1) Appropriate agencies, entities, and persons when: (a) The CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to: (a) Permit a decision as to access, amendment or correction of records to be made in consultation with or by that agency; or (b) verify the identity of an individual or the accuracy of information submitted by an individual who has requested access to or amendment or correction of records;

(3) To the Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) The U.S. Department of Justice (“DOJ”) for its use in providing legal advice to the CFPB or in representing the CFPB in a proceeding before a court, adjudicative body, or other administrative body, where the use of such information by the DOJ is deemed by the CFPB to be relevant and necessary to the advice or proceeding, and in the case of a proceeding, such proceeding names as a party in interest:

(a) The CFPB;

(b) Any employee of the CFPB in his or her official capacity;

(c) Any employee of the CFPB in his or her individual capacity where DOJ or the CFPB has agreed to represent the employee; or

(d) The United States, where the CFPB determines that litigation is likely to affect the CFPB or any of its components;

(7) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings;

(8) Appropriate federal, state, local, foreign, tribal, or self-regulatory organizations or agencies responsible for investigating, prosecuting, enforcing, implementing, issuing, or carrying out a statute, rule, regulation, order, policy, or license if the information may be relevant to a potential violation of civil or criminal law, rule, regulation, order, policy or license.

Policies and practices for storing, retrieving, accessing, retaining, and dispensing of records in the system:

Storage:

Paper and electronic records.

Retrievability:

Records are retrievable by a variety of fields including, but not limited to, the individual's name, home address, work organization, location, unique numeric identifier chosen by the individual, or the last four of the Social Security number, mode of transportation, or by some combination thereof.

Safeguards:

Access to electronic records is restricted to authorized personnel who have been issued non-transferrable access codes and passwords. Other records are maintained in locked file cabinets or rooms with access limited to those personnel whose official duties require access.

Retention and disposal:

The CFPB will maintain electronic and paper records in accordance with published National Archives and Records Administration Disposition Schedule, General Records Schedule 9, Federal Employee Transportation Subsidy Program. Temporary. Destroy when 3 years old. (General Records Schedule (GRS) 9, item 7)

System manager(s) and address:

The Consumer Financial Protection Bureau, Chief Operating Officer, 1700 G Street NW., Washington, DC 20006.

Notification procedure:

Individuals seeking notification and access to any record contained in this system of records, or seeking to contest its content, may inquire in writing in accordance with instructions appearing in Title 12, Chapter 10 of the CFR, “Disclosure of Records and Information.” Address such requests to: Chief Privacy Officer, Bureau of Consumer Financial Protection, 1700 G Street NW., Washington, DC 20006.

Record access procedures:

See “Notification Procedures” above.

Contesting record procedures:

See “Notification Procedures” above.

Record source categories:

Information in this system is maintained about employees who have applied for or hold parking permits, or applied for or participate in the transportation subsidy program, the subsidy program managers and other appropriate agency officials, or other federal agencies.

Exemptions claimed for the system:

None.

[FR Doc. 2011-28594 Filed 11-3-11; 8:45 am]

BILLING CODE 4810-AM-P